DEPARTMENT OF THE INTERIOR

National Park Service

Native American Graves Protection and Repatriation Review Committee Findings and Recommendations Regarding a Dispute Between Hui Malama I Na Kupuna O Hawai'i Nei and the Bishop Museum

AGENCY: National Park Service, Interior.

ACTION: Notice.

SUMMARY: At a March 13-15, 2005, public meeting in Honolulu, HI, the Native American Graves Protection and Repatriation Review Committee (Review Committee) considered a dispute between Hui Malama I Na Kupuna O Hawai'i Nei and the Bishop Museum. The dispute focused on the disposition of carved sandstone blocks from the Island of Moloka'i known as Kalaina Wawae that are under the control of the Bishop Museum. The Review Committee recommended that the Bishop Museum and Hui Malama o Mo'omomi work together to revise expeditiously the current memorandum of agreement to require the consent of Hui Malama o Mo'omomi prior to the removal of the Kalaina Wawae from the Island of Molokai.

SUPPLEMENTARY INFORMATION: On April 9, 1999, the Bishop Museum published a Notice of Intent to Repatriate in the Federal Register. The notice identified three sandstone blocks containing carved footprints, also known as Kalaina Wawae, as objects of cultural patrimony culturally affiliated with Hui Malama I Na Kupuna O Hawai'i Nei.

On March 4, 2003, the Bishop Museum and Hui Malama O Mo'omomi signed a memorandum of agreement to place the Kalaina Wawae at Mo'omomi, Island of Moloka'i. Hand written at the bottom of the memorandum of agreement is the following: “Signed under protest because Hui Malama I Na Kupuna O Hawai'i Nei was removed from this agreement without explanation by Bishop Museum to any of the parties. This act demonstrates a lack of respect on the part of the museum.” The Kalaina Wawae were moved to Mo'omomi on the Island of Moloka'i.

On November 3, 2003, the Bishop Museum published a correction in the Federal Register rescinding the April 9, 1999, notice. The correction states that the Bishop Museum does not intend to repatriate the Kalaina Wawae to the Native Hawaiian organizations that previously presented claims.

On November 29, 2004, Hui Malama I Na Kupuna O Hawai'i Nei requested the assistance of the Review Committee in resolving its dispute with the Bishop Museum as to whether repatriation of the Kalaina Wawae to Hui Malama I Na Kupuna O Hawai'i Nei was complete when no competing claims were filed following publication of the April 9, 1999, Federal Register notice.

On December 17, 2004, the Review Committee's designated Federal officer acknowledged receipt of the November 29, 2004, request and identified questions as to whether the Kalaina Wawae are objects of cultural patrimony as an issue of fact with which the Review Committee might wish to assist in resolving. The request for a recommendation regarding the finality of repatriation, which is likely dependent on provisions of state law and other legal authorities, was identified as being beyond the Review Committee's purview.

On February 2, 2005, the Bishop Museum provided information to the Review Committee relevant to the dispute, including a declaration that the museum does not consider the Kalaina Wawae to be objects of cultural patrimony.

On February 21, 2005, the Review Committee's designated Federal officer notified Hui Malama I Na Kupuna O Hawai'i Nei and the Bishop Museum that the Review Committee had agreed to assist in the resolution of the dispute at its next meeting.

On March 1, 2005, the Review Committee's designated Federal officer invited a representative of Hui Malama O Mo'omomi to provide information to the Review Committee.

Findings and Recommendations: On March 13-15, 2005, the Review Committee considered the dispute as presented by representatives of Hui Malama I Na Kupuna O Hawai'i Nei, Bishop Museum, and Hui Malama o Mo'omomi and made the following findings:

1. There is disagreement regarding whether the Kalaina Wawae are objects of cultural patrimony.

2. The Review Committee has chosen not to come to a finding as to whether the Kalaina Wawae are objects of cultural patrimony at this time.

3. The Review Committee recognizes the cultural significance of the Kalaina Wawae to the people of the Island of Molokai.

4. The Review Committee believes that the current location of the Kalaina Wawae is appropriate.

The Review Committee recommends that the Bishop Museum and Hui Malama o Mo'omomi work together to revise expeditiously the current memorandum of agreement to require the consent of Hui Malama o Mo'omomi prior to the removal of the Kalaina Wawae from the Island of Molokai.

The National Park Service publishes this notice as part of its administrative and staff support for the Review Committee. The findings and recommendations are those of the Review Committee and do not necessarily represent the views of the Secretary of the Interior. Neither the Secretary of the Interior nor the National Park Service has taken a position on these matters.

Dated: May 20, 2005.
Rosita Worl,
Chair, Native American Graves Protection and Repatriation Review Committee.

[FR Doc. 05-10809 Filed 5-31-05; 8:45 am]

BILLING CODE 4312-50-S